DEPARTMENT OF LABOR

Bureau of Labor Statistics

Labor Research Advisory Council; Notice of Meetings and Agenda

The Spring meetings of committees of the Labor Research Advisory Council will be held on June 6, 7, and 8, 2005. All of the meetings will be held in the Conference Center of the Postal Square Building, 2 Massachusetts Avenue, NE., Washington, DC.

The Labor Research Advisory Council and its committees advise the Bureau of Labor Statistics with respect to technical matters associated with the Bureau's programs. Membership consists of union research directors and staff members. The schedule and agenda of the meetings are as follows:

Monday, June 6, 2005

1:30 p.m.—Committee on Productivity, Technology and Growth—Room 10

1. Industry labor productivity updates plan and improvement initiatives.

2. Productivity and costs measures for new service industries.

3. High Technology Employment: A North American Industry Classification System (NAICS)-based update.

4. Discussion of topics for the next meeting.

Committee on Foreign Labor Statistics—Room 10

1. Update on employment and compensation data for China.

2. NAICS conversion of hourly compensation costs in manufacturing component industries.

3. Current international technical cooperation activities.

4. Discussion of topics for the next meeting.

Tuesday, June 7, 2005

9:30 a.m.—Committee on Employment and Unemployment Statistics—Room 10

1. Evaluation of BLS employment measures by the Federal Economic Statistics Advisory Committee—request for LRAC recommendation for research or options to explore for improving BLS measures.

2. Current Employment Statistics survey planned revisions—final decision on proposal to measure all employee earnings and drop women workers.

3. Proposed revision to North American Industry Classification System for 2007.

4. Discussion of topics for the next meeting.

1:30 p.m.—Committee on Occupational Safety and Health Statistics—Room 10

1. 2003 Survey of Occupational Injuries and Illnesses results: December summary release; March case and demographics release.

2. Update on special survey on Workplace Violence Prevention Practices.

3. Special Training Survey.

4. Study of multiple fatality incidents conducted by BLS.

5. Occupational Safety and Health Statistics Strategic Planning.

6. Budget update.

7. Other business.

8. Discussion of topics for the next meeting.

Wednesday, June 8, 2005

9:30 a.m.—Committee on Prices and Living Conditions—Room 10

1. Expanded Import Price Indexes by locality of origin.

2. Discussion of topics for the next meeting.

1:30 p.m.—Committee on Compensation and Working Conditions—Room 10

1. Upcoming changes in the Employment Cost Index.

a. North American Industry Classification System and the Standard Occupational Classification System.

b. Reweighting and rebasing, and methodological changes.

c. Publication plans and continuity concerns.

2. A new measure for the Employment Cost Index: Estimates excluding incentive paid workers.

3. Research plans for the Employment Cost Index Possible additional Employment Cost Index series.

4. Summary of recently issued data on Work Stoppages in 2004.

5. Update on National Compensation Survey data on employee benefit plans. Publication plans for 2005.

6. Discussion of topics for the next meeting.

The meetings are open to the public. Persons planning to attend these meetings as observers may want to contact Wilhelmina Abner on 202-691-5970.

Signed at Washington, DC this 4th day of May 2005.
Kathleen P. Utgoff,
Commissioner.

[FR Doc. 05-9385 Filed 5-10-05; 8:45 am]

BILLING CODE 4510-24-P